FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 8, 2023.

A. Federal Reserve Bank of Chicago (Colette A. Fried, Assistant Vice President) 230 South LaSalle Street, Chicago, Illinois 60690-1414. Comments can also be sent electronically to Comments.applications@chi.frb.org:

1. Michael R. Mickelson, as trustee of the following trusts: the M.R. Mickelson Tama County Abstract Company Trust, the John M. Mickelson Trust f/b/o Benjamin J. Mickelson, John M. Mickelson Trust f/b/o Jonathan R. Mickelson, and the John M. Mickelson Trust f/b/o Elizabeth J. Mickelson, all of Eagle, Idaho; Elizabeth J. Mickelson, Missoula, Montana;, and Marjorie M. Mickelson, Ketchum, Idaho; to form the Mickelson Family Control Group, a group acting in concert, to retain voting shares of Tama County Abstract Company, and thereby indirectly retain voting shares of The State Bank of Toledo, both of Toledo, Iowa.

Additionally, Benjamin J. Mickelson and Jonathan R. Mickelson, both of Missoula, Montana, individually, and as co-trustees of the John Mickelson Trust f/b/o Elizabeth J. Mickelson, Eagle, Idaho; to join the Mickelson Family Control Group, a group acting in concert, to acquire additional voting shares of Tama County Abstract Company, and thereby indirectly acquire additional voting shares of The State Bank of Toledo.

B. Federal Reserve Bank of St. Louis (Holly A. Rieser, Senior Manager) P.O. Box 442, St. Louis, Missouri 63166-2034. Comments can also be sent electronically to Comments.applications@stls.frb.org:

1. Kimberly P. Thompson Irrevocable Trust, Katherine Thompson Investment Services Trust, Lawren K. Thompson Investment Services Trust, John P. Thompson Investment Services Trust, and John N. Thompson, as trustee to aforementioned trusts, all of Brentwood, Tennessee; Benjamin D. Thompson Investment Services Trust, Denver, Colorado, Julie C. Thompson Irrevocable Trust, Jack A. Thompson Investment Services Trust, and David W. Thompson, as trustee to the aforementioned trusts, Rhea Ellen Thompson Gift Trust, and Jack A. Thompson, as trustee, all of Edmonton, Kentucky; William C. Bishop, Bowling Green, Kentucky; and John D. Thompson, Edmonton, Kentucky; a group acting in concert, to retain voting shares of Edmonton Bancshares, Inc., and thereby indirectly retain voting shares of Edmonton State Bank, both of Glasgow, Kentucky.

C. Federal Reserve Bank of Kansas Jeffrey Imgarten, Assistant Vice President 1 Memorial Drive, Kansas City, Missouri 64198-0001. Comments can also be sent electronically to KCApplicationComments@kc.frb.org:

1. Oikonomia Financial Holdings, LLP, and The Randall B. Rush Revocable Trust, and Randall B. Rush, as trustee, all of Colorado Springs, Colorado; Wendy Fisher, Monument, Colorado; to acquire voting shares of Integrity Capital Holdings, Inc., and thereby indirectly acquire voting shares of Integrity Bank & Trust, both of Monument, Colorado. In addition, Christina Harrison, Fredericktown, Ohio; Kristen Schenk, St. Marys, Kansas; Kale Shank, Evansville, Indiana; Brett Wyss, Colorado Springs, Colorado; Derick Wyss, High Springs, Florida; Tiffany Decker, Monument, Colorado; and Evan Rodgers, Portland, Oregon; to join the Rush Family Control Group, a group acting in concert, to retain voting shares of Integrity Capital Holdings, Inc., and thereby indirectly retain voting shares of Integrity Bank & Trust.

Board of Governors of the Federal Reserve System.
Michele Taylor Fennell,
Deputy Associate Secretary of the Board.

[FR Doc. 2023-23463 Filed 10-23-23; 8:45 am]

BILLING CODE P